DEPARTMENT OF TRANSPORTATION

Federal Aviation Administration

14 CFR Part 71

[Docket No. FAA-2020-0823; Airspace Docket No. 20-AAL-49]

RIN 2120-AA66

Proposed Technical Amendment to Separate Terminal Airspace Areas from Norton Sound Low, Woody Island Low, Control 1234L, and Control 1487L Offshore Airspace Areas; Alaska

AGENCY: Federal Aviation Administration (FAA), DOT.

ACTION: Notice of proposed rulemaking (NPRM).

SUMMARY: This action proposes to amend the following Offshore Airspace Areas in Alaska: Norton Sound Low, Woody Island Low, Control 1234L, and Control 1487L. The FAA found an error with the Offshore Airspace Legal Descriptions containing airspace descriptions not related to the need to apply IFR en route Air Traffic Control services in international airspace. This action would correct that error by removing terminal airspace, airspace associated with geographic coordinates, and airspace associated with NAVAIDs from the Offshore Airspace legal descriptions.

DATES: Comments must be received on or before November 5, 2020.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2020-0823; Airspace Docket No. 20-AAL-49 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC, 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0823; Airspace Docket No. 20-AAL-49) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0823; Airspace Docket No. 20-AAL-49.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Availability and Summary of Documents for Incorporation by Reference

This document proposes to amend FAA Order 7400.11E, Airspace Designations and Reporting Points, dated July 12, 2020, and effective September 15, 2020. FAA Order 7400.11E is publicly available as listed in the ADDRESSES section of this document. FAA Order 7400.11E lists Class A, B, C, D, and E airspace areas, air traffic service routes, and reporting points.

Background

A final rule was published in the Federal Register for Docket No. FAA-2006-25852 under Airspace Docket No. 06-AAL-29 (72 FR 31714; June 8, 2007; as corrected 72 FR 37430, July 10, 2007), this action amended the following offshore airspace areas: Norton Sound Low, Woody Island Low, Control 1234L, and Control 1487L Offshore Airspace Areas; Alaska, to include terminal airspace previously thought to be excluded in the Code of Federal Regulations. The exclusionary language was misinterpreted including all airspace West of Longitude 160°. The FAA found this interpretation to be in error as the exclusion only pertains to the area West of Longitude 160° for the Alaska Peninsula. The Alaska Peninsula does not include the Aleutian Islands nor preclude the establishment of airspace under CFR 71.71(c). This action proposes to correct this error and reverse the final rule. Offshore Airspace areas are reserved for those areas that extend from the Territorial Zone to the Flight Information Region boundary, in international airspace, where it is necessary to apply domestic airspace rules.

The FAA also published a final rule in the Federal Register for Docket No. FAA-2006-26164 under Airspace Docket No. 06-AAL-34 (72 FR 5611; February 7, 2007). This action revoked the Class E Airspace for Adak, Atka, Cold Bay, Nelson Lagoon, Saint George Island, Sand Point, Shemya, St. Paul Island, and Unalaska, AK as it was thought that because these locations were within Control 1234L they should be contained in the offshore airspace description. This was in error as offshore airspace cannot be established within 12 nautical miles of a coastline of the United States (U.S.). This action would also correct that error. This proposed technical amendment would separate Offshore Airspace and terminal class E airspace to provide pilots with an accurate legal description in the appropriate sections of the regulation.

The Proposal

The FAA is proposing an amendment to Title 14 Code of Federal Regulations (14 CFR) part 71 to modify the Norton Sound Low, Woody Island Low, Control 1234L, and Control 1487L Offshore Airspace areas by removing 33 terminal facilities, five NAVAIDS, and three sets of geographic coordinate assigned airspace included in the Offshore Airspace areas legal description contained in FAA Order 7400.11 Section 6007. The vertical and lateral boundaries would remain as published.

Additionally, the FAA proposes to define the legal descriptions of the terminal facilities in section 6002 and 6005 in FAA Order 7400.11. The proposed actions are described below.

Shemya, AK: Shemya is currently published in 1234L as Eareckson AS. This action proposes to remove Eareckson AS description from 1234L legal description and add it to section 6005 in FAA Order 7400.11 labeled under the correct identifier as Shemya, AK. This proposed action would retain the same legal description for the Class E5 airspace.

Adak, AK: Adak, AK is currently published in the 1234L legal description. This proposed action would remove the Adak class E legal description from 1234L and relocate it to section 6005 without changing the boundaries.

Atka, AK: Atka, AK is currently published in the 1234L legal description. This proposed action would remove the Atka class E legal description from 1234L and relocate it to section 6005 with no change to the boundaries.

Cold Bay, AK: Cold Bay, AK is currently published in the 1234L legal description. This proposed action would remove the Cold Bay class E2 and E5 legal descriptions from 1234L and relocate them to sections 6002 and 6005 with no change to the boundaries.

Perryville, AK: Perryville, AK is currently published in the Norton Sound Low legal description. This proposed action would remove the Perryville class E legal description from Norton Sound Low and relocate it to section 6005 with no change to the boundaries.

Nikoloski, AK: Nikoloski, AK is currently published in the 1234L legal description. This proposed action would remove the Nikoloski class E legal description from 1234L and relocate it to section 6005 with no change to the boundaries.

Manokotak, AK: Manokotak, AK is currently published in the Norton Sound Low, 1234L legal description. It is also published in section 6005, but has an outdated legal description. This proposed action would remove the Manokotak class E legal description from Norton Sound Low, and 1234L and relocate it to section 6005 with the correct boundaries and coordinates for the airport location. It would also correct the current legal description, removing the word New from Manokotak/New Airport, to reflect proper airport identification.

Clarks Point, AK: Clarks Point, AK is currently published in the Norton Sound Low and 1234L legal descriptions. This proposed action would remove the Clarks Point class E legal description from Norton Sound Low and 1234L and relocate it to section 6005 with no change to the boundaries.

Port Heiden, AK: Port Heiden, AK is currently published in the Norton Sound Low, Woody Island Low, and 1234L legal description. This proposed action would remove the Port Heiden class E legal description from Norton Sound Low, Woody Island Low, and 1234L and relocate it to section 6005 with no change to the boundaries.

St. George, AK: St. George, AK is currently published in the 1234L legal description. This proposed action would remove the St. George class E legal description from 1234L and relocate it to section 6005 with no change to the boundaries.

St. Paul Island, AK: St. Paul Island, AK is currently published in the 1234L legal description. This proposed action would remove the St. Paul Island class E legal description from 1234L and relocate it to section 6005 with no change to the boundaries.

Unalaska, AK: Unalaska, AK is currently published in the 1234L legal description. This proposed action would remove the Unalaska class E legal description from 1234L and relocate it to section 6005 with administrative changes correcting the word bearing to radial and adding the reference for the Dutch Harbor NDB, AK. The rest of the airspace legal description would remain unchanged.

Sand Point, AK: Sand Point, AK is currently published in the 1234L legal description. This proposed action would remove the Sand Point class E legal description from 1234L and relocate it to section 6005 with administrative changes correcting either to each, mail to mile, and adding the reference to Borland NDB/DME. The rest of the legal description would remain unchanged.

Chignik, AK: Chignik, AK is currently published in the Norton Sound Low, Woody Island Low, and 1234L legal description. This proposed action would remove the Atka class E legal description from Norton Sound, Woody Island Low, and 1234L and relocate it to section 6005 with no change to the boundaries.

King Cove, AK: King Cove, AK is currently published in the 1234L legal description. This proposed action would remove the King Cove class E legal description from 1234L and relocate it to section 6005 with an administrative changing either to each, and no change to the boundaries.

Nelson Lagoon, AK: Nelson Lagoon, AK is currently published in the 1234L legal description. This proposed action would remove the Nelson Lagoon class E legal description from 1234L and relocate it to section 6005 with no change to the boundaries.

Chevak, AK: Chevak, AK is currently published in the Norton Sound Low legal description. This proposed action would remove the Chevak class E legal description from Norton Sound Low and relocate it to section 6005 with no change to the boundaries.

Elim, AK: Elim, AK is currently published in the Norton Sound Low legal description. This proposed action would remove the Elim class E legal description from Norton Sound Low and relocate it to section 6005 with no change to the boundaries.

Hooper Bay, AK: Hooper Bay, AK is currently published in the Norton Sound Low legal description. This proposed action would remove the Hooper Bay class E legal description from Norton Sound Low and relocate it to section 6005 with no change to the boundaries.

King Salmon, AK: King Salmon, AK is currently published in the Norton Sound Low, legal description. This proposed action would remove the King Salmon class E legal description from Norton Sound Low and correct the legal description in section 6005 with an administrative change replacing the word either to each, removing duplicate name in header line two, and no change to the boundaries.

Kivalina, AK: Kivalina, AK is currently published in the Norton Sound Low legal description. This proposed action would remove the Kivalina class E legal description from Norton Sound Low and correct the legal description contained in section 6005, replacing the word either to each, removing the duplicate name header in line two, and no change to the boundaries.

Kwethluk, AK: Kwethluk, AK is currently published in the Norton Sound Low legal description. This proposed action would remove the Kwethluk class E legal description from Norton Sound Low and correcting the legal description located in section 6005 with an administrative change, removing the double name header in line two, with no change to the boundaries.

Napakiak, AK: Napakiak, AK is currently published in the Norton Sound Low legal description. This proposed action would remove the Napakiak class E legal description from Norton Sound Low and correcting the legal description located in section 6005 with an administrative change, correcting duplicate name in heading line two with no change to the boundaries.

New Stuyahok, AK: New Stuyahok, AK is currently published in the Norton Sound Low legal description. This proposed action would remove the New Stuyahok class E legal description from Norton Sound Low and correct legal description contained in section 6005 with an administrative change, removing duplicate name in heading line two with no change to the boundaries.

Noatak, AK: Noatak, AK is currently published in the Norton Sound Low legal description. This proposed action would remove the Noatak class E legal description from Norton Sound Low and retain it in section 6005 with no change to the boundaries.

Red Dog, AK: Red Dog, AK is currently published in the Norton Sound Low legal description. This proposed action would remove the Red Dog class E legal description from Norton Sound Low and correct the legal description in section 6005 with an administrative change correcting the word either to each and no change to the boundaries.

Scammon Bay, AK: Scammon Bay, AK is currently published in the Norton Sound Low legal description. This proposed action would remove the Scammon Bay class E legal description from Norton Sound Low and correct the legal description located in section 6005 with an administrative change correcting the word either to each and no change to the boundaries.

Shaktoolik, AK: Shaktoolik, AK is currently published in the Norton Sound Low legal description. This proposed action would remove the Shaktoolik class E legal description from Norton Sound Low and retaining it in section 6005 with no change to the boundaries.

Selawik, AK: Selawik, AK is currently published in the Norton Sound Low legal description. This proposed action would remove the Selawik class E legal description from Norton Sound Low and correct the legal description located in section 6005 with an administrative change removing the duplicate name in heading line two with no change to the boundaries.

St. Michael, AK: St. Michael, AK is currently published in the Norton Sound Low legal description. This proposed action would remove the St. Michael class E legal description from Norton Sound Low and correcting the legal description located in section 6005 with an administrative change removing the duplicate name in heading line two with no change to the boundaries.

Toksook Bay, AK: Toksook Bay, AK is currently published in the Norton Sound Low legal description. This proposed action would remove the Toksook Bay class E legal description from Norton Sound Low and retain it in section 6005 with no change to the boundaries.

Nome, AK: Nome, AK and Nome VORTAC is currently published in the Norton Sound Low legal description. This proposed action would remove the Nome VORTAC and Nome class E legal description from Norton Sound Low and add the Nome VORTAC to the Nome, AK legal description located in section 6005 with no change to the boundaries.

Kodiak, AK: Kodiak, AK is currently published in the Control 1487L legal description. This proposed action would remove the Kodiak class E legal description from Control 1487L and correct the legal description located in section 6005 with an administrative change replacing the word either to each with no change to the boundaries.

Homer, AK: Homer, AK is currently published in the Control 1487L legal description. This proposed action would remove the Homer class E legal description from Control 1487L and retain the legal description in section 6005 with an administrative change correcting the word either to each and no change to the boundaries.

Anchorage, AK: Anchorage, AK is currently published in the Control 1487L legal description. This proposed action would remove the Anchorage class E legal description from Control 1487L and retain the legal description in section 6005 with no change to the boundaries.

Class E Airspace Areas Designated as Surface Areas, Class E Airspace Areas Extending Upward from 700 feet or more Above the Surface of the Earth, and Offshore Airspace Areas are published in paragraphs 6002, 6005, and 6007 of FAA Order 7400.11E dated July 21, 2020, and effective September 15, 2020, which is incorporated by reference in 14 CFR part 71.1. The Airspace listed in this document will be subsequently published in the Order.

FAA Order 7400.11, Airspace Designations and Reporting Points, is published yearly and effective on September 15.

ICAO Considerations

As part of this proposal relates to navigable airspace outside the U.S. this notice is submitted in accordance with the International Civil Aviation Organization (ICAO) International Standards and Recommended Practices. The application of International Standards and Recommended Practices by the FAA, Office of Policy, Rules and Regulations Group, in areas outside the U.S. domestic airspace, is governed by the Convention on International Civil Aviation. Specifically, the FAA is governed by Article 12 and Annex 11, which pertain to the establishment of necessary air navigational facilities and services to promote the safe, orderly, and expeditious flow of civil air traffic. The purpose of Article 12 and Annex 11 is to ensure that civil aircraft operations on international air routes are performed under uniform conditions.

The International Standards and Recommended Practices in Annex 11 apply to airspace under the jurisdiction of a contracting state, derived from ICAO. Annex 11 provisions apply when air traffic services are provided and a contracting state accepts the responsibility of providing air traffic services over high seas or in airspace of undetermined sovereignty. A contracting state accepting this responsibility may apply the International Standards and Recommended Practices that are consistent with standards and practices utilized in its domestic jurisdiction.

In accordance with Article 3 of the convention, state-owned aircraft are exempt from the Standards and Recommended Practices of Annex 11. The United States is a contracting state to the Convention. Article 3(d) of the Convention provides that participating state aircraft will be operated in international airspace with due regard for the safety of civil aircraft.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 6007 Offshore Airspace Areas

* * * * *

Control 1234L [Amend]

That airspace extending upward from 2,000 feet above the surface within an area bounded by a line beginning at lat. 58°06′57″ N, long. 160°00′00″ W, then south along 160°00′00″ W longitude, until it intersects the Anchorage Air Route Traffic Control Center (ARTCC) boundary; then southwest, northwest, north, and northeast along the Anchorage ARTCC boundary to lat. 62°35′00″ N, long. 175°00′00″ W, to lat. 59°59′57″ N, long. 168°00′08″ W, to lat. 57°45′57″ N, long. 161°46′08″ W, to the point of beginning.

* * * * *

Norton Sound Low [Amend]

That airspace extending upward from 14,500 feet MSL within an area bounded by a line beginning at lat. 56°42′59″ N, long. 160°00′00″ W, then north along a line 12 miles from and parallel to the U.S. coastline to the intersection with 164°00′00″ W, longitude near the outlet to Kotzebue Sound, then north to the intersection with a point 12 miles from the U.S. coastline, then north along a line 12 miles from and parallel to the shoreline to lat. 68°00′00″ N, to lat. 68°00′00″ N, long. 168°58′23″ W, to lat. 65°00′00″ N, long. 168°58′23″ W, to lat. 62°35′00″ N, long. 175°00′00″ W, to lat. 59°59′57″ N, long. 168°00′08″ W, to lat. 57°45′57″ N, long. 161°46′08″ W, to lat. 58°06′57″ N, long. 160°00′00″ W, to the point of beginning.

* * * * *

Woody Island Low [Amend]

That airspace extending upward from 14,500 feet MSL within the area bounded by a line beginning at lat. 53°30′00″ N, long. 160°00′00″ W, to lat. 56°00′00″ N, long. 153°00′00″ W, to lat. 56°45′42″ N, long. 151°45′00″ W, to lat. 58°19′58″ N, long. 148°55′07″ W, to lat. 59°08′34″ N, long. 147°16′06″ W, then clockwise via the 149.5-mile radius from the Anchorage, VOR/DME, AK, to the intersection with a point 12 miles from and parallel to the U.S. coastline, then southwest along a line 12 miles from and parallel to the U.S. coastline to the intersection with 160°00′00″ W longitude, to the point of beginning.

* * * * *

Control 1487L [Amend]

That airspace extending upward from 5,500 feet MSL within the area bounded by a line beginning at lat. 58°19′58″ N, long. 148°55′07″ W; to lat. 59°08′34″ N, long. 147°16′06″ W; thence counterclockwise via the 149.5-mile radius of the Anchorage VOR/DME, AK, to the intersection with a point 12 miles from and parallel to the U.S. coastline; thence southeast 12 miles from and parallel to the U.S. coastline to a point 12 miles offshore on the Vancouver FIR boundary; to lat. 54°32′57″ N, long. 133°11′29″ W; to lat. 54°00′00″ N, long. 136°00′00″ W; to lat. 52°43′00″ N, long. 135°00′00″ W; to lat. 56°45′42″ N, long. 151°45′00″ W; to the point of beginning; and that airspace extending upward from 1,200 feet MSL within the area bounded by a line beginning at lat. 59°33′25″ N, long. 141°03′22″ W; thence southeast 12 miles from and parallel to the U.S. coastline to lat. 58°56′18″ N, long. 138°45′19″ W; to lat. 58°40′00″ N., long. 139°30′00″ W; to lat. 59°00′00″ N, long. 141°10′00″ W; to the point of beginning.

* * * * *

Paragraph 6002 Class E Airspace Areas Designated as Surface Areas

* * * * *

AAL AK E2 Cold Bay, AK [New]

Cold Bay, AK

(Lat. 55°12′21″ N, Long. 162°43′35″ W)

That airspace extending upward from the surface within a 4.6-mile radius of Cold Bay Airport, AK, and within 1.7 miles each side of the 150° bearing from the airport, extending from the 4.6-mile radius to 7.7 miles southeast and within 3 miles west and 4 miles east of the 335° bearing from the airport extending from the 4.6-mile radius to 12.2 miles northwest.

* * * * *

Paragraph 6005 Class E Airspace Areas Extending Upward from 700 feet or More Above the Surface of the Earth

* * * * *

AAL AK E5 Shemya, AK [New]

Eareckson AS, AK

(Lat. 52°42′44″ N, Long. 174°06′49″ E)

That airspace extending upward from 700 feet above the surface within a 6.9-mile radius of Eareckson Air Station, AK and that airspace extending upward from 1,200 feet above the surface within a 26.2-mile radius of Eareckson Air Station, AK.

* * * * *

AAL AK E5 Adak, AK [New]

Adak Airport, AK

(Lat. 51°53′01″ N, Long. 176°38′33″ W)

Mount Moffett NDB/DME

(Lat. 51°52′19″ N, Long. 176°40′334″ W)

That airspace extending upward from 700 feet above the surface within a 7-mile radius of Adak Airport, AK and within 5.2 miles northwest and 4.2 miles southeast of the 061° radial from the Mount Moffett NDB/DME extending from the 7-mile radius to 11.5 miles northeast and that airspace extending upward from 1,200 feet above the surface within an 11-mile radius of Adak Airport, AK and within 16 miles of Adak Airport extending clockwise from the 033° radial to the 081° radial from the Mount Moffett NDB/DME.

* * * * *

AAL AK E5 Atka, AK [New]

Atka Airport, AK

(Lat. 52°13′14″ N, Long. 174°12′22″ W)

That airspace extending upward from 700 feet above the surface within a 6.4-mile radius of the Atka Airport, AK and that airspace extending upward from 1,200 feet above the surface within a 10-mile radius of Atka Airport, AK.

* * * * *

AAL AK E5 Cold Bay, AK [New]

Cold Bay, AK

(Lat. 55°12′21″ N, Long. 162°43′35″ W)

That airspace extending upward from 1,200 feet above the surface within a 10.6-mile radius of Cold Bay Airport, AK, and within 9 miles east and 4.3 miles west of the 321° bearing from the Airport extending from the 10.6-mile radius to 20 miles northwest, and that airspace 4 miles each side of the 070° bearing from Cold Bay Airport, AK, extending from the 10.6-mile radius to 13.6 miles northeast,

* * * * *

AAL AK E5 Nikolski, AK [New]

Nikolski AS, AK

(Lat. 52°56′30″ N, Long. 168°50′57″ W)

That airspace extending upward from 700 feet above the surface within a 6.3-mile radius of the Nikolski AS, AK and that airspace extending upward from 1,200 feet above the surface within a 73-mile radius of the Nikolski AS, AK.

* * * * *

AAL AK E5 Manokotak, AK [Remove]

Manokotak/New Airport, AK

(Lat. 58°59′25″ N, Long. 159°03′00″ W)

* * * * *

AAL AK E5 Manakotak, AK [Amend]

Manakotak Airport, AK

(Lat. 58°55′55″ N, Long. 158°54′07″ W)

That airspace extending upward from 700 feet above the surface within a 6.4-mile radius of Manokotak Airport, AK; and that airspace extending upward from 1,200 feet above the surface within a 74-mile radius of Manokotak Airport, AK, excluding that airspace extending beyond 12 miles of the shoreline.

* * * * *

AAL AK E5 St. George, AK [New]

St. George Airport, AK

(Lat. 56°34′39″ N, Long. 169°39′49″ W)

That airspace extending upward from 700 feet above the surface within a 6.6-mile radius of the St. George Airport, AK and that airspace extending upward from 1,200 feet above the surface within a 10-mile radius of St. George Airport, AK.

* * * * *

AAL AK E5 St. Paul Island, AK [New]

St. Paul Island, Airport, AK

(Lat. 57°09′59″ N, Long. 170°13′21″ W)

That airspace extending upward from 700 feet above the surface and within an 8-mile radius of St. Paul Island Airport, AK, and 8 miles west and 6 miles east of the 360° bearing from St. Paul Island Airport, AK, to 14 miles north of St. Paul Island Airport, AK, and within 6 miles west and 8 miles east of the 172° bearing from St. Paul Island Airport, AK, to 15 miles south of St. Paul Island Airport, AK, and that airspace extending upward from 1,200 feet above the surface within a 73-mile radius of St. Paul Island Airport, AK.

* * * * *

AAL AK E5 Unalaska, AK [New]

Unalaska Airport, AK

(Lat. 53°53′56″ N, Long. 166°32′42″ W)

Dutch Harbor NDB

(Lat. 53°54′19″ N, Long. 166°32′52″ W)

That airspace extending upward from 700 feet above the surface within a 6.4-mile radius of the Unalaska Airport, AK and within 2.9 miles each side of the 360° radial from the Dutch Harbor NDB, AK, extending from the 6.4-mile radius of Unalaska Airport, AK, to 9.5 miles north of Unalaska Airport, AK; and that airspace extending upward from 1,200 feet above the surface within a 20-mile radius of Unalaska Airport, AK, extending clockwise from the 305° radial from the Dutch Harbor NDB, AK, to the 075° radial from the Dutch Harbor NDB, AK.

* * * * *

AAL AK E5 Sand Point, AK [New]

Sand Point Airport, AK

(Lat. 55°18′49″ N, Long. 160°31′17″ W)

Borland NDB/DME

(Lat. 55°18′56″ N, Long. 160°31′6″ W)

That airspace extending upward from 700 feet above the surface within a 6.4-mile radius of Sand Point Airport, AK and within 3 miles each side of the 172° radial from the Borland NDB/DME, AK, extending from the 6.4-mile radius of Sand Point Airport, AK, to 13.9 miles south of Sand Point Airport, AK and within 5 miles each side of the 318° radial from the Borland NDB/DME, AK, extending from the 6.4-mile radius of Sand Point Airport, AK, to 17 miles northwest of Sand Point Airport, AK and within 5 miles either side of the 324° radial from the Borland NDB/DME, AK, extending from the 6.4-mile radius of Sand Point Airport, AK, to 17 miles northwest of the Sand Point Airport, AK, and that airspace extending upward from 1,200 feet above the surface and west of 160° W. longitude within a 25-mile radius of the Borland NDB/DME, AK.

* * * * *

AAL AK E5 King Cove, AK [New]

King Cove Airport, AK

(Lat. 55°06′59″ N, Long. 162°15′58″ W)

That airspace extending upward from 700 feet above the surface within a 6.5-mile radius of King Cove Airport, and extending 1.2 miles each side of the 103° bearing from King Cove Airport from the 6.5-mile radius out to 8.8 miles.

* * * * *

AAL AK E5 Nelson Lagoon, AK [New]

Nelson Lagoon Airport, AK

(Lat. 56°0′27″ N, Long. 161°9′37″ W)

That airspace extending upward from 700 feet above the surface within a 6.3-mile radius of Nelson Lagoon Airport, AK.

* * * * *

AAL AK E5 King Salmon, AK [Amend]

King Salmon Airport, AK

(Lat. 58°40′35″ N, Long. 156°38′55″ W)

King Salmon VORTAC

(Lat. 58°43′29″ N, Long. 156°45′08″ W)

That airspace extending upward from 700 feet above the surface within a 6.9-mile radius of King Salmon Airport, AK, and within 5 miles north and 9 miles south of the 132° radial of the King Salmon VORTAC, AK, extending from the King Salmon VORTAC, AK, to 36 miles southeast of the King Salmon VORTAC, AK, and within 3.9 miles each side of the 312° radial of the King Salmon VORTAC, AK, extending from the 6.9-mile radius to 13.9 miles northwest of the King Salmon VORTAC, AK; and that airspace extending upward from 1,200 feet above the surface within a 73-mile radius of the King Salmon Airport, AK, excluding that airspace extending beyond 12 miles of the shoreline.

* * * * *

AAL AK E5 Kivalina, AK [Amend]

Kivalina Airport, AK

(Lat. 67°44′10″ N, Long. 164°33′49″ W)

That airspace extending upward from 700 feet above the surface within a 6.5-mile radius of the Kivalina Airport, AK, and 3.9 miles each side of the 317° bearing from the Kivalina Airport, AK, extending from the 6.5-mile radius to 11.1 miles northwest of the Kivalina Airport, AK; and that airspace extending upward from 1,200 feet above the surface within a 73-mile radius of the Kivalina Airport, AK.

* * * * *

AAL AK E5 Kwethluk, AK [Amend]

Kwethluk Airport, AK

(Lat. 60°47′25″ N, Long. 161°26′37″ W)

That airspace extending upward from 700 feet above the surface within a 6.3-mile radius of the Kwethluk Airport, AK; and that airspace extending upward from 1,200 feet above the surface within a 73-mile radius of the Kwethluk Airport, AK.

* * * * *

AAL AK E5 Napakiak, AK [Amend]

Napakiak Airport, AK

(Lat. 60°41′25″ N, Long. 161°58′43″ W)

That airspace extending upward from 700 feet above the surface within a 6.3-mile radius of the Napakiak Airport, AK; and that airspace extending upward from 1,200 feet above the surface within an 84-mile radius of the Napakiak Airport, AK.

* * * * *

AAL AK E5 New Stuyahok, AK [Amend]

New Stuyahok Airport, AK

(Lat. 59°27′06″ N, Long. 157°22′23″ W)

That airspace extending upward from 700 feet above the surface within a 6.9-mile radius of the New Stuyahok Airport; and that airspace extending upward from 1,200 feet above the surface within a 71-mile radius of the New Stuyahok Airport.

* * * * *

AAL AK E5 Red Dog, AK [Amend]

Red Dog, AK

(Lat. 68°01′56″ N, Long. 162°53′57″ W)

That airspace extending upward from 700 feet above the surface within an 11-mile radius of the Red Dog Airport, AK, and within 4 miles each side of the 219° bearing from the Red Dog Airport, AK, extending from the 11-mile radius to 14.5 miles southwest of the Red Dog Airport, AK; and that airspace extending upward from 1,200 feet above the surface within a 72.5-mile radius of the Red Dog Airport, AK.

* * * * *

AAL AK E5 Scammon Bay, AK [Amend]

Scammon Bay Airport, AK

(Lat. 61°50′40″ N, Long. 165°34′25″ W)

That airspace extending upward from 700 feet above the surface within a 6.3-mile radius of Scammon Bay Airport, and within 4 miles each side of the 099° bearing of Scammon Bay Airport extending from the 6.3-mile radius to 11 miles east of the airport; that airspace extending upward from 1,200 feet above the surface with a 73-mile radius of Scammon Bay Airport, AK.

* * * * *

AAL AK E5 Selawik, AK [Amend]

Selawik Airport, AK

(Lat. 66°36′01″ N, Long. 159°59′09″ W)

That airspace extending upward from 700 feet above the surface within a 7.3-mile radius of the Selawik Airport; and that airspace extending upward from 1,200 feet above the surface within a 74-mile radius of the Selawik Airport.

* * * * *

AAL AK E5 St. Michael, AK [Amend]

St. Michael Airport, AK

(Lat. 63°29′24″ N, Long. 162°06′37″ W)

That airspace extending upward from 700 feet above the surface within an 8.4-mile radius of St. Michael Airport; and that airspace extending upward from 1,200 feet above the surface within a 73-mile radius of the St. Michael Airport, excluding that airspace that extends beyond 12 miles of the shoreline.

* * * * *

AAL AK E5 Kodiak, AK [Amend]

Kodiak Airport, AK

(Lat. 57°44′59″ N, Long. 152°29′38″ W)

That airspace extending upward from 700 feet above the surface within an 6.9-mile radius of Kodiak Airport, AK, and within 3.1 miles each side of the 072° bearing from Kodiak Airport, AK, extending from the 6.9-mile radius from the airport, to 12.2 miles east of the airport, and within 1 mile each side of the 091° bearing from Kodiak Airport, AK, extending from the 6.9-mile radius from the airport, to 8.2 miles east of the airport, and that airspace extending upward from 1,200 feet above the surface within a 73-mile radius of the Kodiak Airport, AK, excluding that airspace extending beyond 12 miles of the shoreline.

* * * * *

AAL AK E5 Homer, AK [Amend]

Homer Airport, AK

(Lat. 59°38′44″ N, Long. 151°28′36″ W)

Kachemak NDB

(Lat. 59°38′29″ N, Long. 151°30′01″ W)

That airspace extending upward from 700 feet above the surface within a 6.7-mile radius of the Homer Airport, AK, and within 4 miles each side of the 055° bearing from the Homer Airport, AK, to 12-miles northeast of the Homer Airport, AK, and within 8-miles north and 4.2-miles south of the Kachemak NDB 235° bearing extending from the Kachemak NDB to 16 miles southwest of the Kachemak NDB; and that airspace extending upward from 1,200 feet above the surface within a 73-mile radius of the Homer Airport, AK.

* * * * *

Issued in Washington, DC, on September 14, 2020.
Scott M. Rosenbloom,
Acting Manager, Rules and Regulations Group.

[FR Doc. 2020-20567 Filed 9-18-20; 8:45 am]

BILLING CODE 4910-13-P